FEDERAL ELECTION COMMISSION

Sunshine Act Meeting Notice

Date and Time: Thursday, April 17, 2008 at 10 a.m.

Place: 999 E Street, NW., Washington, DC (Ninth Floor).

Status: This Meeting will be Open to the Public.

Items to be Discussed: Correction and Approval of Minutes.

Advisory Opinion 2008-01: Butler County Democrats for Change (DPAC), by its treasurer, Diane L. Sipe.

Advisory Opinion 2008-02: Todd Goldup. Management and Adminisrative Matters.

Person to Contact for Information: Robert Biersack, Press Officer, Telephone: (202) 694-1220.

Individuals who plan to attend and require special assistance, such as sign language interpretation or other reasonable accommodations, should contact Mary Dove, Commission Secretary, at (202) 694-1040, at least 72 hours prior to the hearing date.

Mary W. Dove,
Secretary of the Commission.

[FR Doc. E8-7725 Filed 4-11-08; 8:45 am]

BILLING CODE 6715-01-M